FEDERAL TRADE COMMISSION

Agency Information Collection Activities; Submission for OMB Review; Comment Request

AGENCY: Federal Trade Commission (FTC or Commission).

ACTION: Notice and request for comment.

SUMMARY: In compliance with the Paperwork Reduction Act (PRA) of 1995, the FTC is seeking public comments on its request to OMB for a three-year extension of the current PRA clearance for information collection requirements contained in its Trade Regulation Rule entitled Labeling and Advertising of Home Insulation (R-value Rule or Rule) (OMB Control Number 3084-0109). That clearance expires on November 30, 2011.

DATES: Comments must be filed by December 9, 2011.

ADDRESSES: Interested parties may submit written comments by following the instructions in the Request for Comments part of the SUPPLEMENTARY INFORMATION section below. Comments in electronic form should be submitted by using this Web link: https://ftcpublic.commentworks.com/ftc/rvaluerulepra2. Comments in paper form should be mailed or delivered to the following address: Federal Trade Commission, Office of the Secretary, Room H-113 (Annex J), 600 Pennsylvania Avenue NW., Washington, DC 20580.

FOR FURTHER INFORMATION CONTACT: Hampton Newsome, Attorney, Division of Enforcement, Bureau of Consumer Protection, Federal Trade Commission, 600 Pennsylvania Avenue NW., Washington, DC 20580, (202) 326-2889.

SUPPLEMENTARY INFORMATION: Title: R-value Rule, 16 CFR Part 460.

OMB Control Number: 3084-0109.

Type of Review: Extension of a currently approved collection.

Abstract: The R-value Rule sets uniform standards for the substantiation and disclosure of accurate, material product information about the thermal performance characteristics of home insulation products. The R-value of an insulation is its resistance to the flow of heat. This tells consumers how well a product is likely to perform as an insulator and allows consumers to determine whether the cost of the insulation is justified.

On August 12, 2011, the Commission sought comment on the information collection requirements in the R-value Rule. 76 FR 50218. No comments were received. As required by OMB regulations, 5 CFR Part 1320, the FTC is providing this second opportunity for public comment.

Estimated Annual Hours Burden: 126,827 hours.

Likely Respondents and Estimated Burden:

Installation manufacturers, installers, new home sellers and retailers.

(a) Installation manufacturers.

• Testing by installation manufacturers − 15 new products/year × 2 hours each = 30 hours; and

• Disclosures by installation manufacturers − [(144 manufacturers × 20 hours) + (6 largest manufacturers x 80 hours each] = 3,360 hours.

• Recordkeeping by installation manufacturers − 150 manufacturers × 1 hour each = 150 hours.

(b) Installers.

• Disclosures by retrofit installers (manufacturer's insulation fact sheet) − 2 million retrofit installations/year × 2 minutes each = 66,667 hours.

• Disclosures by installers (advertising) − 1,615 installers × 1 hour each = 1,615 hours.

• Recordkeeping by installers − 1,615 installers × 5 minutes each = 134 hours.

(c) New home sellers.

• Disclosures by new home sellers − 586,900 new home sales/year × 30 seconds each = 4,871 hours.

(d) Retailers.

• Disclosures by retailers − [25,000 retailers × 1 hour each (fact sheets) + 25,000 retailers × 1 hour each (advertising disclosure) = 50,000 hours.

Frequency of Response: Periodic.

Total Annual Labor Cost: $2,517,036 per year [approximately $780 for testing, based on 30 hours for manufacturers (30 hours × $26 per hour for skilled technical personnel); $3,976 for manufacturers' and installers' compliance with the Rule's recordkeeping requirements, based on 284 hours (284 hours × $14 per hour for clerical personnel); $47,040 for manufacturers' compliance with third-party disclosure requirements, based on 3,360 hours (3,360 hours × $14 per hour for clerical personnel); and $2,465,240 for disclosure compliance by installers, new home sellers, and retailers (123,262 hours ×$20 per hour for sales persons).]

Request For Comment

You can file a comment online or on paper. For the Commission to consider your comment, we must receive it on or before December 9, 2011. Write “R-value Rule: FTC File No. R811001” on your comment. Your comment—including your name and your state—will be placed on the public record of this proceeding, including, to the extent practicable, on the public Commission Web site, at http://www.ftc.gov/os/publiccomments.shtm. As a matter of discretion, the Commission tries to remove individuals' home contact information from comments before placing them on the Commission Web site.

Because your comment will be made public, you are solely responsible for making sure that your comment doesn't include any sensitive personal information, like anyone's Social Security number, date of birth, driver's license number or other state identification number or foreign country equivalent, passport number, financial account number, or credit or debit card number. You are also solely responsible for making sure that your comment doesn't include any sensitive health information, like medical records or other individually identifiable health information. In addition, don't include any “[t]rade secret or any commercial or financial information which is obtained from any person and which is privileged or confidential * * *, ” as provided in Section 6(f) of the FTC Act, 15 U.S.C. 46(f), and FTC Rule 4.10(a)(2), 16 CFR 4.10(a)(2). In particular, don't include competitively sensitive information such as costs, sales statistics, inventories, formulas, patterns, devices, manufacturing processes, or customer names. If you want the Commission to give your comment confidential treatment, you must file it in paper form, with a request for confidential treatment, and you have to follow the procedure explained in FTC Rule 4.9(c), 16 CFR 4.9(c). Your comment will be kept confidential only if the FTC General Counsel, in his or her sole discretion, grants your request in accordance with the law and the public interest.

Postal mail addressed to the Commission is subject to delay due to heightened security screening. As a result, we encourage you to submit your comments online, or to send them to the Commission by courier or overnight service. To make sure that the Commission considers your online comment, you must file it at https://ftcpublic.commentworks.com/ftc/rvaluerulepra2, by following the instructions on the web-based form. If this Notice appears at http://www.regulations.gov, you also may file a comment through that Web site.

If you file your comment on paper, write “R-value Rule: FTC File No. R811001” on your comment and on the envelope, and mail or deliver it to the following address: Federal Trade Commission, Office of the Secretary, Room H-113 (Annex J), 600 Pennsylvania Avenue NW., Washington, DC 20580. If possible, submit your paper comment to the Commission by courier or overnight service.

Visit the Commission Web site at http://www.ftc.gov to read this Notice and the news release describing it. The FTC Act and other laws that the Commission administers permit the collection of public comments to consider and use in this proceeding as appropriate. The Commission will consider all timely and responsive public comments that it receives on or before December 9, 2011. You can find more information, including routine uses permitted by the Privacy Act, in the Commission's privacy policy, at http://www.ftc.gov/ftc/privacy.shtm.

Comments on the information collection requirements subject to review under the PRA should also be submitted to OMB. If sent by U.S. mail, address comments to: Office of Information and Regulatory Affairs, Office of Management and Budget, Attention: Desk Officer for the Federal Trade Commission, New Executive Office Building, Docket Library, Room 10102, 725 17th Street, NW., Washington, DC 20503. Comments sent to OMB by U.S. postal mail, however, are subject to delays due to heightened security precautions. Thus, comments instead should be sent by facsimile to (202) 395-5167.

Willard K. Tom,
General Counsel.

[FR Doc. 2011-29016 Filed 11-8-11; 8:45 am]

BILLING CODE 6750-01-P